DEPARTMENT OF ENERGY

Federal Energy Regulatory Commission

Sunshine Act Meeting

The following notice of meeting is published pursuant to section 3(a) of the Government in the Sunshine Act (Pub. L. 94-409), 5 U.S.C. 552b:

AGENCY HOLDING MEETING: Federal Energy Regulatory Commission.

DATE AND TIME: March 15, 2012, 10 a.m.

PLACE: Room 2C, 888 First Street NE., Washington, DC 20426.

STATUS: Open.

MATTERS TO BE CONSIDERED: Agenda * Note—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

979th—Meeting; Regular Meeting
March 15, 2012, 10 a.m.
Item No. | Docket No. | Company
Administrative
A-1 | AD02-1-000 | Agency Business Matters.
A-2 | AD02-7-000 | Customer Matters, Reliability, Security and Market Operations.
Electric
E-1 | ER12-718-000 | New York Independent System Operator, Inc.
E-2 | EC11-83-000 | Exelon Corporation.
| EC11-83-001 | Constellation Energy Group, Inc.
E-3 | RC11-6-000 | North American Electric Reliability Corporation.
| RC12-1-000 |
| RC12-2-000 |
| RC12-6-000 |
| RC12-7-000 |
E-4 | RM12-1-000 | Transmission Planning Reliability Standards.
E-5 | RM11-18-000 | Transmission Planning Reliability Standards.
E-6 | RM11-16-000 | Transmission Relay Loadability Reliability Standard.
E-7 | RM11-20-000 | Automatic Underfrequency Load Shedding and Load Shedding Plans Reliability Standards.
E-8 | RM01-8-012 | Revised Public Utility Filing Requirements for Electric Quarterly Reports.
E-9 | EL00-95-268 | San Diego Gas & Electric Company v. Sellers of Energy and Ancillary Services.
| EL00-98-249 | Investigation of Practices of the California Independent System Operator and the California Power Exchange Corporation.
| EL01-10-077 | Puget Sound Energy, Inc. v. Sellers of Energy and/or Capacity.
| EL01-68-043 | Investigation of Wholesale Rates of Public Utility Sellers of Energy and Ancillary Services in the Western Market Systems Coordinating Council.
| IN03-10-077 | Investigation of Anomalous Bidding Behavior and Practices in Western Markets.
| PA02-02-092 | Fact-Finding Investigation Into Possible Manipulation of Electric and Natural Gas Prices.
| EL03-137-038 | American Electric Power Service Corporation.
| EL03-180-067 | Enron Power Marketing, Inc. and Enron Energy Services Inc.
| ER03-746-043 | California Independent System Operator Corporation
| EL02-71-040 | State of California, ex rel. Bill Lockyer, Attorney General of the State of California v. British Columbia Power Exchange Corp.
| EL09-56-017 | State of California, ex rel. Edmund G. Brown Jr., Attorney General of the State of California v. Powerex Corp. (f/k/a British Columbia Power Exchange Corp.) et al.
E-10 | OMITTED |
E-11 | OMITTED |
E-12 | EL11-51-000 | Northern Laramie Range Alliance.
| QF10-649-000 | Pioneer Wind Park 1, LLC.
| QF10-687-000 | Pioneer Wind Park II, LLC.
E-13 | OMITTED |
E-14 | EL12-16-00 | Benjamin Riggs v. Rhode Island Public Utilities Commission.
E-15 | EL12-20-000 | PPL Electric Utilities Corporation.
E-16 | EL12-21-000 | Powerex Corp. v. United States Department of Energy, Western Area Power Administration—Sierra Nevada Region.
E-17 | ER12-806-000 | California Independent System Operator Corporation.
E-18 | ER11-3973-002 | California Independent System Operator Corporation.
E-19 | ER11-2875-004 | PJM Interconnection, L.L.C.
| EL11-20-004 | PJM Power Providers Group v. PJM Interconnection, L.L.C.
E-20 | ER11-3972-001 | PJM Interconnection, L.L.C.
| ER11-3973-001 | California Independent System Operator Corporation.
| ER11-3953-001 | ISO New England Inc. and New England Power Pool.
| ER11-3970-001 | Midwest Independent Transmission System Operator, Inc.
| ER11-3949-002 | New York Independent System Operator, Inc.
| ER11-3958-001 | Southwest Power Pool, Inc.
| ER11-3967-001 |
E-21 | ER11-3972-002 | PJM Interconnection, L.L.C.
E-22 | ER11-3970-002 | Midwest Independent Transmission System Operator, Inc.
E-23 | OMITTED |
E-24 | OMITTED |
E-25 | ER12-757-000 | ISO New England Inc.
E-26 | ER11-2580-001 | ISO New England Inc.
| ER11-2580-002 |
E-27 | ER11-3953-002 | ISO New England Inc. and New England Power Pool.
| ER11-3953-003 |
E-28 | ER08-1281-010 | New York Independent System Operator, Inc.
E-29 | ER11-3949-003 | New York Independent System Operator, Inc.
E-30 | OMITTED |
E-31 | OMITTED |
E-32 | ER09-1148-000 | PPL Electric Utilities Corporation.
E-33 | ER11-3967-002 | Southwest Power Pool, Inc.
| ER11-3967-003 |
E-34 | EL05-121-006 | PJM Interconnection, L.L.C.
Gas
G-1 | RP11-1999-002 | Texas Gas Transmission, LLC.
G-2 | RP11-2569-002 | Texas Gas Transmission, LLC.
| RP11-2569-003 |
G-3 | OR12-7-000 | Magellan Pipeline Company, L.P.
Hydro
H-1 | P-14107-000 | Lock+Hydro Friends Fund I.
H-2 | P-739-026 | Appalachian Power Company.
H-3 | P-2738-081 | New York State Electric and Gas Corporation.
Certificates
C-1 | CP11-44-001 | Tennessee Gas Pipeline Company.
| RP11-1597-001 |
C-2 | CP11-523-000 | Sawgrass Storage, L.L.C.

Dated: March 8, 2012.
Kimberly D. Bose,
Secretary.

A free webcast of this event is available through www.ferc.gov. Anyone with Internet access who desires to view this event can do so by navigating to www.ferc.govs' Calendar of Events and locating this event in the Calendar. The event will contain a link to its Web cast. The Capitol Connection provides technical support for the free Web cast. It also offers access to this event via television in the DC area and via phone bridge for a fee. If you have any questions, visit www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2012-6108 Filed 3-9-12; 11:15 am]

BILLING CODE 6717-01-P